ENVIRONMENTAL PROTECTION AGENCY

40 CFR Part 52

[VA084/101-5045a; FRL-6562-9]

Approval and Promulgation of Air Quality Implementation Plans; Virginia; Revised Format for Materials Being Incorporated by Reference; Approval of Recodification of the Virginia Administrative Code

Correction

In rule document 00-9535 beginning on page 21315 in the issue of Friday, April 21, 2000, make the following correction:

§52.2420 [Corrected]

1. On page 21329, in §25.2420(c), in the table, under the “Article 17” heading, in the 7th line, in the 4th column, “120-4-1709” should read “120-04-1709”.

2. On page 21334, under the heading “Article 29 Paper and Fabric Coating Application Systems [Rule 4-31]” add the following line to the end of the table:

EPA-Approved Regulations in the Virginia SIP
State citation (9 VAC 5) | Title/subject | State effective date | EPA approval date | Explanation [Former SIP citation]
Article 29 Paper and Fabric Coating Application Systems [Rule 4-29]
5-40-4150 | Permits | 4/17/95 | [Insert publication date and Federal Register cite] | 120-04-2915.

3. On page 21335, under the “Article 33” heading, in the 4th line, in the 2nd column, after “Technology” add “Guidelines”.

4. On page 21337, under the heading “Article 38 Dry Cleaning Systems [Rule 38]” add the following line to end of the table:

EPA-Approved Regulations in the Virginia SIP
State citation (9 VAC 5) | Title/subject | State effective date | EPA approval date | Explanation [Former SIP citation]
Article 38 Dry Cleaning Systems [Rule 4-38]
5-40-5480 | Permits | 4/17/95 | [Insert publication date and Federal Register cite] | 120-04-3814.

5. On page 21340, under the “Chapter 80” heading, in the last line, in the 4th column, “N.” should read “01N. ”.

6. On page 21341, under the same chapter, in the first line, in the 4th column, “O.” should read “01O.”.

7. On the same page, under the same chapter, in the second line, in the 4th column, “P.” should read “01P. ”.

8. On page 21346, under the “Part II” heading, in the third line, in the 3rd column, “1/2/97” should read “1/1/97” and in the sixth line, in the 3rd column, “1//97” should read “1/1/97”.

9. On page 21347, in §52.2420(d), in the table, in the first column, in the 8th line, “Bended” should read “Blended”.

[FR Doc. C0-9535 Filed 7-3-00; 8:45 am]

BILLING CODE 1505-01-D